COMMITTEE FOR PURCHASE FROM PEOPLE WHO ARE BLIND OR SEVERELY DISABLED

Procurement List; Proposed Additions and Deletion

AGENCY: Committee for Purchase From People Who Are Blind or Severely Disabled.

ACTION: Proposed additions to and deletion from the procurement list.

SUMMARY: The Committee is proposing to add products and services to the Procurement List that will be furnished by nonprofit agencies employing persons who are blind or have other severe disabilities, and deletes a product previously furnished by such agency.

Comments must be received on or before: 7/10/2016.

ADDRESSES: Committee for Purchase From People Who Are Blind or Severely Disabled, 1401 S. Clark Street, Suite 715, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

5120-00-NIB-0163—Socket Set, Chrome, ¼″ Drive Deep, Metric 6 Point Fasteners, 11 Pieces

5120-00-NIB-0164—Socket Set, Chrome ¼″ Drive Shallow, Metric 6 Point Fasteners, 11 Pieces

5120-01-047-4356—Socket Set, Chrome ⅜″ Drive Shallow, Metric 12 Point Fasteners, 12 Pieces

5120-01-429-3550—Socket Set, Chrome ½″ Drive Deep, Metric 12 Point Fasteners, 13 Pieces

5120-01-429-3569—Socket Set, Chrome ½″ Drive Shallow, Metric 12 Point Fasteners, 13 Pieces

5120-01-429-3605—Socket Set, Chrome ⅜″ Drive Deep, Metric 6 Point Fasteners, 12 Pieces

Mandatory Purchase For: Total Government Requirement

Mandatory Source(s) of Supply: Beyond Vision, Inc., Milwaukee, WI

Contracting Activity: General Services Administration, Kansas City, MO

Distribution: B-List

NSN(s)—Product Name(s):

8105-00-022-1319—Grocery Bag, Kraft Paper, Natural Brown, ⅙ Barrel, Heavy Duty, 12″ x 7″ x 16½″

8105-00-271-1485—Grocery Bag, Kraft Paper, Natural Brown, No. 12, 7″ x 4½″ x 13⅞″

8105-00-281-1158—Grocery Bag, Kraft Paper, Natural Brown, No. 2, 4¼″ x 2⅜″ x 8⅛″

8105-00-281-1425—Grocery Bag, Kraft Paper, Natural Brown, No. 8, 6¼″ x 3¾″ x 12¾″

8105-00-281-1429—Grocery Bag, Kraft Paper, Natural Brown, No. 25, 8¼″ x 5¼″ x 17⅞″

8105-00-286-7308—Grocery Bag, Kraft Paper, Natural Brown, No. 20, 8⅛″ x 6″ x 14⅜″

8105-00-543-7169—Grocery Bag, Kraft Paper, Natural Brown, ¼ Barrel Bag, 11″ x 7″ x 23¼″

8105-00-857-2250—Grocery Bag, Kraft Paper, Natural Brown, ⅙ Barrel, Heavy Duty, 17″ x 13″ x 7″

Mandatory Purchase For: Total Government Requirement

Mandatory Source(s) of Supply: South Texas Lighthouse for the Blind, Corpus Christi, TX

Contracting Activity: General Services Administration, New York, NY

Distribution: A-List

NSN(s)—Product Name(s): 8530-01-490-7372—Kit, Toiletries

Mandatory Purchase For: Total Government Requirement

Mandatory Source(s) of Supply: NewView Oklahoma, Inc., Oklahoma City, OK

Contracting Activity: General Services Administration, Fort Worth, TX

Distribution: B-List

NSN(s)—Product Name(s): 6210-00-NIB-0006—Tube Light, LED, T8, Universal (Type A or B), 4100K, 2 Foot

Mandatory Purchase For: Total Government Requirement

Mandatory Source(s) of Supply: Central Association for the Blind and Visually Impaired, Utica, NY

Industries for the Blind, Inc., Greensboro, NC Contracting Activity: Defense Logistics Agency Troop Support

Distribution: B-List

Services

Service Type: Dormitory Support Service

Mandatory for: US Air Force, Cannon Air Force Base, Dormitory Campus, CAFB Fire Department,

Base Confinement Area, and Fire Department, Melrose AF Range, Cannon AFB, NM

Mandatory Source(s) of Supply: ENMRSH, Inc., Clovis, NM

Contracting Activity: US Air Force, 27th Special Operations Contracting Squadron, Cannon Air Force Base, NM

Service Type: Laundry Service

Mandatory for: US Army, Tripler Army Medical Center and Clinics Schofield Barracks, HI

Mandatory Source(s) of Supply: Great Plains Enterprises, Inc., Las Vegas, NV

Contracting Activity: US Army, US Army 0413 AQ HQ, KO Directorate of Contracting, Building 520 Pierce St., Fort Shafter, HI

Service Type: Transcription Service

Mandatory for: U.S. Navy, Naval Medical Logistics Command, Fort Detrick, MD

Mandatory Source(s) of Supply: Lighthouse of Houston, Houston, TX

Contracting Activity: Naval Medical Logistics Command, Fort Detrick, MD

Deletion

The following product is proposed for deletion from the Procurement List:

Product

NSN(s)—Product Name(s): 2510-01-063-3893—Floorboard, Wood

Mandatory Source(s) of Supply: UNKNOWN

Contracting Activity: Defense Logistics Agency Land and Maritime, Columbus, OH

Barry S. Lineback,
Director, Business Operations.

[FR Doc. 2016-13768 Filed 6-9-16; 8:45 am]

BILLING CODE 6353-01-P